DEPARTMENT OF ENERGY

Federal Energy Regulatory Commission

Combined Notice of Filings

Take notice that the Commission has received the following Natural Gas Pipeline Rate and Refund Report filings:

Docket Number: PR21-32-000.

Applicants: Pacific Gas and Electric Company.

Description: Tariff filing per 284.123(b), (e)+(g): Revisions to Appendix A of Statement of Operating Conditions 2021 to be effective 1/1/2021.

Filed Date: 2/24/2021.

Accession Number: 202102245065.

Comments Due: 5 p.m. ET 3/17/2021.

284.123(g) Protests Due: 5 p.m. ET 4/26/2021.

Docket Numbers: RP21-512-000.

Applicants: Enable Gas Transmission, LLC.

Description: Enable Gas Transmission, LLC submits tariff filing per 154.204: Negotiated Rate Filing—March 1, 2021 GEP 1011325 to be effective 3/1/2021 under RP21-512.

Filed Date: 02/24/2021.

Accession Number: 20210224-5119.

Comment Date: 5 p.m. ET 3/8/2021.

Docket Numbers: RP21-513-000.

Applicants: Viking Gas Transmission Company.

Description: Viking Gas Transmission Company submits tariff filing per 154.204: Annual LMCRA—Spring 2021 to be effective 4/1/2021 under RP21-513.

Filed Date: 02/25/2021.

Accession Number: 20210225-5003.

Comment Date: 5 p.m. ET 3/9/2021.

Docket Numbers: RP21-514-000.

Applicants: Guardian Pipeline, L.L.C.

Description: Guardian Pipeline, L.L.C. submits tariff filing per 154.204: EPCR Semi-Annual Adjustment—Spring 2021 to be effective 4/1/2021 under RP21-514.

Filed Date: 02/25/2021.

Accession Number: 20210225-5012.

Comment Date: 5 p.m. ET 3/9/2021.

Docket Numbers: RP21-515-000.

Applicants: Midwestern Gas Transmission Company.

Description: Midwestern Gas Transmission Company submits tariff filing per 154.204: Annual Fuel Retention Adjustment Percentage—2021 Rate to be effective 4/1/2021 under RP21-515.

Filed Date: 02/25/2021.

Accession Number: 20210225-5029.

Comment Date: 5 p.m. ET 3/9/2021.

Docket Numbers: RP21-516-000.

Applicants: Sabine Pipe Line LLC.

Description: Sabine Pipe Line LLC submits tariff filing per 154.204: Normal section 5 rates change 2021 to be effective 4/1/2021 under RP21-516.

Filed Date: 02/25/2021.

Accession Number: 20210225-5033.

Comment Date: 5 p.m. ET 3/9/2021.

Docket Numbers: RP21-517-000.

Applicants: Viking Gas Transmission Company.

Description: Viking Gas Transmission Company submits tariff filing per 154.204: Semi-Annual Fuel and Loss Retention Adjustment—Spring 2021 to be effective 4/1/2021 under RP21-517.

Filed Date: 02/25/2021.

Accession Number: 20210225-5044.

Comment Date: 5 p.m. ET 3/9/2021.

Docket Numbers: RP21-518-000.

Applicants: Golden Pass Pipeline LLC.

Description: Golden Pass Pipeline LLC submits tariff filing per 154.203: Golden Pass Pipeline LLC 2020 Operational Purchases and Sales Report.

Filed Date: 02/25/2021.

Accession Number: 20210225-5049.

Comment Date: 5 p.m. ET 3/9/2021.

Docket Numbers: RP21-519-000.

Applicants: El Paso Natural Gas Company, L.L.C.

Description: El Paso Natural Gas Company, L.L.C. submits tariff filing per 154.204: Non-Conforming Agreements (APS) to be effective 4/1/2021 under RP21-519.

Filed Date: 02/25/2021.

Accession Number: 20210225-5063.

Comment Date: 5 p.m. ET 3/9/2021.

Docket Numbers: RP21-520-000.

Applicants: Northwest Pipeline LLC.

Description: Northwest Pipeline LLC submits tariff filing per 154.204: 2021 Summer Fuel Filing to be effective 4/1/2021 under RP21-520.

Filed Date: 02/25/2021.

Accession Number: 20210225-5119.

Comment Date: 5 p.m. ET 3/9/2021.

Docket Numbers: RP21-521-000.

Applicants: Rockies Express Pipeline LLC.

Description: Rockies Express Pipeline LLC submits tariff filing per 154.204: REX 2021-02-25 Negotiated Rate Agreement Amendments to be effective 3/9/2021 under RP21-521.

Filed Date: 02/25/2021.

Accession Number: 20210225-5126.

Comment Date: 5 p.m. ET 3/4/2021.

Docket Numbers: RP21-522-000.

Applicants: Equitrans, L.P.

Description: Equitrans, L.P. submits tariff filing per 154.204: 3-1-2021 Formula-Based Negotiated Rates to be effective 3/1/2021 under RP21-522.

Filed Date: 02/25/2021.

Accession Number: 20210225-5163.

Comment Date: 5 p.m. ET 3/9/2021.

Docket Numbers: RP21-523-000.

Applicants: Millennium Pipeline Company, LLC.

Description: Millennium Pipeline Company, LLC submits tariff filing per 154.203: Annual Report of Operational Transactions 2021.

Filed Date: 02/25/2021.

Accession Number: 20210225-5176.

Comment Date: 5 p.m. ET 3/9/2021.

Docket Numbers: RP21-524-000.

Applicants: Millennium Pipeline Company, LLC.

Description: Millennium Pipeline Company, LLC submits tariff filing per 154.204: RAM 2021 to be effective 4/1/2021.

Filed Date: 02/25/2021.

Accession Number: 20210225-5178.

Comment Date: 5 p.m. ET 3/9/2021.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 26, 2021.
Nathaniel J. Davis, Sr.,
Deputy Secretary.

[FR Doc. 2021-04578 Filed 3-4-21; 8:45 am]

BILLING CODE 6717-01-P